DEPARTMENT OF HOMELAND SECURITY

Coast Guard

33 CFR Part 100

[Docket No. USCG-2012-0974]

Special Local Regulation; Southern California Annual Marine Events for the San Diego Captain of the Port Zone

AGENCY: Coast Guard, DHS.

ACTION: Notice of enforcement of regulation.

SUMMARY: The Coast Guard will enforce the special local regulations during the Mission Bay Parade of Lights, on the waters of Mission Bay, San Diego, California from 6 p.m. to 8 p.m. on 08 December 2012. These special local regulations are necessary to provide for the safety of the participants, crew, spectators, sponsor vessels of the race, and general users of the waterway. During the enforcement period, persons and vessels are prohibited from entering into, transiting through, or anchoring within this special local regulation unless authorized by the Captain of the Port, or his designated representative.

DATES: The regulations in 33 CFR 100.1101 will be enforced on December 8, 2012 from 6 p.m. until 8 p.m.

FOR FURTHER INFORMATION CONTACT: If you have questions on this notice, call or email Petty Officer Deborah Metzger, Waterways Management, U.S. Coast Guard Sector San Diego, CA; telephone (619) 278-7656, email D11-PF-MarineEventsSanDiego@uscg.mil.

SUPPLEMENTARY INFORMATION: The Coast Guard will enforce the special local regulations in 33 CFR 100.1101 in support of the annual Mission Bay Parade of Lights (Item 6 on Table 1 of 33 CFR 100.1101). The Coast Guard will enforce the special local regulations in the main entrance of the channel, in Sail Bay and in the vicinity of the southern tip of Fiesta Island on December 08, 2012 from 6 p.m. to 8 p.m.

Under the provisions of 33 CFR 100.1101, persons and vessels are prohibited from entering into, transiting through, or anchoring within this special local regulation unless authorized by the Captain of the Port, or his designated representative. The Coast Guard may be assisted by other Federal, State, or local law enforcement agencies in enforcing this regulation.

This notice is issued under authority of 33 CFR 100.1101 and 5 U.S.C. 552 (a). In addition to this notice in the Federal Register, the Coast Guard will provide the maritime community with extensive advance notification of this enforcement period via the Local Notice to Mariners, state, or local agencies.

Dated: November 15, 2012.
S.M. Mahoney,
Captain of the Port San Diego, United States Coast Guard.

[FR Doc. 2012-29595 Filed 12-6-12; 8:45 am]

BILLING CODE 9110-04-P